DEPARTMENT OF LABOR

Employment and Training Administration

[TA-W-52,619]

Miller Casket Co., Jermyn, PA; Notice of Termination of Investigation

Pursuant to section 221 of the Trade Act of 1974, as amended, an investigation was initiated on August 19, 2003, in response to a worker petition filed on behalf of workers at Miller Casket Company, Jermyn, Pennsylvania.

The petitioner has requested that the petition be withdrawn. Consequently, the investigation has been terminated.

Signed at Washington, DC, this 9th day of September, 2003.
Richard Church,
Certifying Officer, Division of Trade Adjustment Assistance.

[FR Doc. 03-25724 Filed 10-9-03; 8:45 am]

BILLING CODE 4510-30-P